DEPARTMENT OF HEALTH AND HUMAN SERVICES

National Institutes of Health

National Institute of General Medical Sciences; Amended Notice of Meeting

Notice is hereby given of a change in the meeting of the Biomedical Research and Research Training Review Subcommittee A, June 28, 2011, 8 a.m. to June 28, 2011, 5 p.m., Hilton Washington, DC/Silver Spring, 8727 Colesville Road, Silver Spring, MD 20910 which was published in the Federal Register on May 25, 2011, 76 FR 30370.

The meeting date has been changed to June 16, 2011, 8 a.m. to June 16, 2011, 5 p.m.

The meeting is closed to the public.

Dated: May 31, 2011.
Jennifer S. Spaeth,
Director, Office of Federal Advisory Committee Policy.

[FR Doc. 2011-13989 Filed 6-6-11; 8:45 am]

BILLING CODE 4140-01-P